DEPARTMENT OF COMMERCE

National Oceanic and Atmospheric Administration

RIN: 0648-XP08

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene public hearings on Reef Fish Amendment 31.

DATES: The public hearings will be held on May 26, 2009 through June 8, 2009 at six locations throughout the Gulf of Mexico. For specific dates, times and subjects, see SUPPLEMENTARY INFORMATION.

ADDRESSES: The public hearings will be held in the following locations: Madeira Beach, Marathon and Panama City, FL, Biloxi, MS, LaMarque, TX, Galliano, LA. For specific locations, SUPPLEMENTARY INFORMATION.

Council address: Gulf of Mexico Fishery Management Council, 2203 North Lois Avenue, Suite 1100, Tampa, FL 33607.

FOR FURTHER INFORMATION CONTACT: Dr. Carrie Simmons, Fishery Biologist; Gulf of Mexico Fishery Management Council; telephone: (813) 348-1630.

SUPPLEMENTARY INFORMATION: The Gulf of Mexico Fishery Management Council (Council) has scheduled six public hearings on Amendment 31 to the Reef Fish Fishery Management Plan (FMP) that addresses bycatch of hardshell sea turtles in the Gulf of Mexico bottom longline reef fish fishery. The Council operates under mandates to minimize bycatch to the extent practicable and to protect endangered and threatened species. National Standard 9 of the Magnuson-Stevens Fishery Conservation and Management Act (Magnuson-Stevens Act), requires that conservation and management measures shall, to the extent practicable, (A) minimize bycatch and (B) to the extent bycatch cannot be avoided, minimize the morality of such bycatch. The bycatch reduction and monitoring requirements in the Magnuson-Stevens Act apply to a broad range of living marine species, including sea turtles.

Observer data from the Southeast Fisheries Science Center (SEFSC) indicated a high level of bycatch in the bottom longline component of the fishery, which exceed the anticipated take in the 2005 Biological Opinion. In September 2008, NMFS released an observer report that examined sea turtle takes by the bottom longline reef fish fishery from July 2006 through 2007. In April 2009 an updated report from the SEFSC was published with information collected in 2008 based on revised effort and observer data.

The Council is considering a range of actions and alternatives outlined in Public Hearing draft of Amendment 31 to the Reef Fish FMP to mitigate hardshell sea turtle interactions with bottom longline gear. The Council selected Preferred Actions and Alternatives at their April 2009 Council meeting. The public is encouraged to attend and provide suggestions and input, which will be relayed back to the Council before final action. The Council is holding six public hearings at the following locations throughout the Gulf coast.

These public hearings will begin at 6 p.m. and conclude at the end of public testimony or no later than 9 p.m. at the following location:

•Tuesday, May 26, 2009, Travelodge, 5201 Gulf Freeway, LaMarque, TX 77568, telephone: (409) 986-9777;

•Wednesday, May 27, 2009, Hilton Garden Inn, 1101 US Highway 231, Panama City, FL 32405, telephone: (850) 392-1093;

•Wednesday, May 27, 2009, South Lafourche Levee District, 17904 Hwy 3235, Galliano, LA 70354, telephone: (985) 632-7554;

•Thursday, May 28, 2009, Wingate Inn, 12009 Indian River Road, Biloxi, MS 39540, telephone: (228) 396-0036;

•Monday, June 8, 2009, Banana Bay Resort, 4590 Overseas Highway, Marathon, FL 33050, telephone: (305) 743-3500.

This public hearing will begin at 6:30 p.m. and conclude at the end of public testimony or no later than 9:30 p.m. at the following location:

•Thursday, June 4, 2009, City of Madeira Beach, 300 Municipal Drive, Madeira Beach, FL 33708, telephone: (727) 391-9951.

Copies of the Amendment can be obtained by calling the Council office at (813) 348-1630.

Special Accommodations

These hearings are physically accessible to people with disabilities. Requests for sign language interpretation or other auxiliary aids should be directed to Tina O'Hern at the Council (see ADDRESSES) at least 5 working days prior to the meeting.

Dated: May 5, 2009.
William D. Chappell,
Acting Director, Office of Sustainable Fisheries, National Marine Fisheries Service.

[FR Doc. E9-10836 Filed 5-8-09; 8:45 am]

BILLING CODE 3510-22-S